SECURITIES AND EXCHANGE COMMISSION

17 CFR Part 249

[Release No. 34-66020A; File No. S7-19-10]

RIN 3235-AK69

Technical Amendment to Rules for the Temporary Registration of Municipal Advisors

AGENCY: Securities and Exchange Commission.

ACTION: Final rule; technical amendment.

SUMMARY: The Securities and Exchange Commission (“Commission”) is making a technical amendment to rules under the Securities Exchange Act of 1934 (“Exchange Act”) to correct an inadvertent error. On December 21, 2011, the Commission extended the expiration date for the temporary municipal advisor registration regime to September 30, 2012. In the release extending the expiration date, the Commission inadvertently omitted a reference to Subpart N, which resulted in the deletion of Subpart N from the Code of Federal Regulations. With this technical amendment, the Commission is correcting the omission and adding back Subpart N to the Code of Federal Regulations.

DATES: Effective Date: July 18, 2012.

FOR FURTHER INFORMATION CONTACT: Yue Ding, Attorney-Adviser, Office of Market Supervision, at (202) 551-5842, Division of Trading and Markets, Commission, 100 F Street NE., Washington, DC 20549-7010.

SUPPLEMENTARY INFORMATION: On September 1, 2010, the Commission adopted interim final temporary Rule 15Ba2-6T under the Exchange Act (“Rule 15Ba2-6T”),¹ which provides for the temporary registration of municipal advisors under the Exchange Act, as amended by the Dodd-Frank Wall Street Reform and Consumer Protection Act.² The Commission also adopted Subpart N (Forms for Registration of Municipal Advisors), which consisted of 17 CFR 249.1300T (Form MA-T—For temporary registration as a municipal advisor, and for amendments to, and withdrawals from, temporary registration). On December 21, 2011, the Commission adopted an amendment to Rule 15Ba2-6T, which extended the date on which Rule 15Ba2-6T (and consequently Form MA-T) will sunset from December 31, 2011, to September 30, 2012.³ The Commission did not make any other amendments to Rule 15Ba2-6T or Form MA-T. In the release extending the expiration date, the Commission inadvertently omitted the reference to Subpart N and 17 CFR 249.1300T in the “Statutory Authority and Text of Rule and Amendments” section. As such, Subpart N, which consists of 17 CFR 249.1300T, was deleted from the Code of Federal Regulations. The Commission is making this technical amendment to restore Subpart N and 249.1300T to Title 17 of the Code of Federal Regulations.

¹ 17 CFR 240.15Ba2-6T.

² See Securities Exchange Act Release No. 62824 (September 1, 2010), 75 FR 54465 (September 8, 2010).

³ See Securities Exchange Act Release No. 66020 (December 21, 2011), 76 FR 80733 (December 27, 2011).

List of Subjects in 17 CFR Part 249

Reporting and recordkeeping requirements, Municipal advisors, Temporary registration requirements.

For the reasons set out above, Title 17, Chapter II, of the Code of Federal Regulations is amended as follows:

PART 249—FORMS, SECURITIES EXCHANGE ACT OF 1934

1. The authority citation for part 249 continues to read in part as follows:

Authority: 15 U.S.C. 78a et seq. and 7201 et seq.; and 18 U.S.C. 1350, unless otherwise noted.

* * * * *

2. Subpart N, consisting of § 249.1300T, is added to read as follows:

Subpart N—Forms for Registration of Municipal Advisors

§ 249.1300T Form MA-T—For temporary registration as a municipal advisor, and for amendments to, and withdrawals from, temporary registration.

The form shall be used for temporary registration as a municipal advisor, and for amendments to, and withdrawals from, temporary registration pursuant to Section 15B of the Exchange Act, (15 U.S.C. 78o-4).

Note: The text of Form MA-T does not, and the amendments will not, appear in the Code of Federal Regulations.

Dated: July 12, 2012.
Elizabeth M. Murphy,
Secretary.

[FR Doc. 2012-17411 Filed 7-17-12; 8:45 am]

BILLING CODE 8011-01-P